ENVIRONMENTAL PROTECTION AGENCY

40 CFR Part 55

Outer Continental Shelf Air Regulations

CFR Correction

In Title 40 of the Code of Federal Regulations, Parts 53 to 59, revised as of July 1, 2007, in Appendix A to Part 55, on page 143, in the second column, above paragraph (b), the heading and paragraph (a) for California are reinstated to read as follows:

Appendix A to Part 55—Listing of State and Local Requirements Incorporated by Reference Into Part 55, by State

* * * * *

California

(a) State requirements.

(1) The following requirements are contained in State of California Requirements Applicable to OCS Sources, February 2006:

Barclays California Code of Regulations

The following sections of Title 17 Subchapter 6:

17 § 92000—Definitions (Adopted 5/31/91)

17 § 92100—Scope and Policy (Adopted 5/31/91)

17 § 92200—Visible Emission Standards (Adopted 5/31/91)

17 § 92210—Nuisance Prohibition (Adopted 5/31/91)

17 § 92220—Compliance with Performance Standards (Adopted 5/31/91)

17 § 92400—Visible Evaluation Techniques (Adopted 5/31/91)

17 § 92500—General Provisions (Adopted 5/31/91)

17 § 92510—Pavement Marking (Adopted 5/31/91)

17 § 92520—Stucco and Concrete (Adopted 5/31/91)

17 § 92530—Certified Abrasive (Adopted 5/31/91)

17 § 92540—Stucco and Concrete (Adopted 5/31/91)

17 § 93115—Airborne Toxic Control Measure for Stationary Compression Ignition Engines (Adopted 2/26/04)

Health and Safety Code

The following section of Division 26, Part 4, Chapter 4, Article 1:

Health and Safety Code § 42301.13 of seq. Stationary sources: demolition or removal (chaptered 7/25/96)

* * * * *

[FR Doc. 07-55521 Filed 10-23-07; 8:45 am]

BILLING CODE 1505-01-D